DEPARTMENT OF TRANSPORTATION

Office of the Secretary

Notice of Applications for Certificates

Notice of Applications for Certificates of Public Convenience and Necessity and Foreign Air Carrier Permits Filed Under Subpart B (formerly Subpart Q) during the Week Ending August 8, 2008. The following Applications for Certificates of Public Convenience and Necessity and Foreign Air Carrier Permits were filed under Subpart B (formerly Subpart Q) of the Department of Transportation's Procedural Regulations (See 14 CFR 301.201 et seq.).

The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0240.

Date Filed: August 5, 2008.

Due Date for Answers, Conforming Applications, or Motion to Modify Scope:August 26, 2008.

Description: Application of Air Dominicana S.A. requesting a foreign air carrier permit and exemption authority to engage in (i) charter foreign air transportation of persons and property between points in the Dominican Republic and points in the United States and beyond, with or without stopovers, and (ii) Fifth Freedom charter service pursuant to the prior approval requirements.

Renee V. Wright,
Program Manager, Docket Operations Federal Register Liaison.

[FR Doc. E8-19285 Filed 8-19-08; 8:45 am]

BILLING CODE 4910-9X-P